DEPARTMENT OF ENERGY

Federal Energy Regulatory Commission

[Project No. 9821-102]

Trafalgar Power Inc.; Notice of Teleconference To Discuss Agency Requests To Reopen License To Require Fish Passage and Protection Measures

a. Date and Time of teleconference: March 12, 2013 at 10:00 a.m. Eastern Time.

b. FERC Contact: B. Peter Yarrington (202) 502-6129 or peter.yarrington@ferc.gov.

c. Purpose of teleconference: Discuss issues concerning agency requests for use of reserved authority under standard article 15 of the Ogdensburg Project license to require improvements in fish passage and protection measures at the project. The project is located on the Oswegatchie River in St. Lawrence County, New York. In letters filed November 27 and November 30, 2012, respectively, the U.S. Fish and Wildlife Service and the New York State Department of Environmental Conservation requested the Commission exercise its reserved authority.

d. Proposed topics of discussion: (1) Background and current status of fish passage and protection on the Oswegatchie River, on which the Ogdensburg Project is located; (2) the resource agencies' rationale for recommending fish passage and protection facilities at the project; (3) identification of possible improvements to fish passage and protection at the project; (4) the cost and feasibility of any improvements and effects on project economics; (5) the licensee's bankruptcy status and issues concerning the ongoing bankruptcy proceeding, and (6) any other pertinent issues.

e. All local, state, and federal agencies, Indian tribes, and other interested entities are invited to participate by phone. If interested in participating, please contact B. Peter Yarrington at the above email address for information on the telephone number and access code for the conference call.

f. FERC conferences are accessible under section 508 of the Rehabilitation Act of 1973. For accessibility accommodations please send an email to accessibility@ferc.gov or call toll free (866) 208-3372 (voice) or (202)-502-8659 (TTY), or send a FAX to (202) 208-2106 with the required accommodations.

Dated: February 20, 2013.
Kimberly D. Bose,
Secretary.

[FR Doc. 2013-04658 Filed 2-27-13; 8:45 am]

BILLING CODE 6717-01-P